DEPARTMENT OF COMMERCE

Office of the Secretary

Proposed Information Collection; Comment Request; Complaint of Discrimination Based on Sexual Orientation Against the U.S. Department of Commerce

AGENCY: Office of the Secretary, Office of Civil Rights.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 23, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Kathryn Anderson, 202-482-3680, or KAnderson@doc.gov.

SUPPLEMENTARY INFORMATION:

I. Abstract

Pursuant to Executive Order 11478 and Department of Commerce Administrative Order (DAO) 215-11, an employee or applicant for employment with the Department of Commerce who alleges that he or she has been subjected to discriminatory treatment based on sexual orientation by the Department of Commerce or one of its subagencies, must submit a signed statement that is sufficiently precise to identify the actions or practices that form the basis of the complaint.

The complainant is also required to provide an address and phone number where the complainant or his or her representative may be contacted. Through use of this standardized form (CD-545), the Office of Civil Rights proposes to collect the information required by the Executive Order and DAO in a uniform manner that will increase the efficiency of complaint processing and trend analyses of complaint activity.

II. Method of Collection

A paper form, signed by the complainant or his/her designated representative, must be submitted by mail or delivery service, in person, or by facsimile transmission.

III. Data

OMB Control Number: 0690-0024.

Form Number: CD-545.

Type of Review: Regular submission (extension of a currently approved information collection).

Affected Public: Individuals or households.

Estimated Number of Respondents: 20.

Estimated Time per Response: 30 minutes.

Estimated Total Annual Burden Hours: 10.

Estimated Total Annual Cost to Public: $78.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 16, 2011.
Glenna Mickelson,
Management Analyst, Office of the Chief Information Officer.

[FR Doc. 2011-6612 Filed 3-21-11; 8:45 am]

BILLING CODE 3510-BP-P